DEPARTMENT OF ENERGY

Federal Energy Regulatory Commission

[Project No. 2457-041]

Public Service Company of New Hampshire; Notice of Application Tendered for Filing With the Commission and Establishing Procedural Schedule for Licensing and Deadline for Submission of Final Amendments

Take notice that the following hydroelectric application has been filed with the Commission and is available for public inspection.

a. Type of Application: New Major License

b. Project No.: 2457-041

c. Date Filed: December 18, 2015

d. Applicant: Public Service Company of New Hampshire (PSNH)

e. Name of Project: Eastman Falls Hydroelectric Project (Eastman Falls Project)

f. Location: The existing project is located on the Pemigewasset River in Merrimack and Belknap Counties, New Hampshire. The project boundary includes approximately 476 acres of federal land.

g. Filed Pursuant to: Federal Power Act, 16 U.S.C. 791(a)-825(r)

h. Applicant Contact: Curtis R. Mooney, Project Manager, Public Service Company of New Hampshire, 780 North Commercial Street, P.O. Box 330, Manchester, NH 03105-0330; Telephone: (603) 744-8855 or curtis.mooney@eversource.com.

i. FERC Contact: Steve Kartalia, (202) 502-6131 or stephen.kartalia@ferc.gov.

j. This application is not ready for environmental analysis at this time.

k. The Project Description: The Eastman Falls Project has a total installed capacity of 6.4-megawatts (MW). The project's average annual generation is 27,871 megawatt-hours. The power generated by the project is sold to PSNH's electrical distribution customers.

The dam for the Eastman Falls Project is located approximately 1.5 miles downstream of the U.S. Army Corps of Engineers' (Corps) Franklin Falls Flood Control Dam (Franklin Falls Dam). While the project boundary for the Eastman Falls Project extends through and upstream of Franklin Falls Dam, it does not encompass Franklin Falls Dam or any Corps facilities.

The existing project consists of: (1) A 341-foot-long, 37-foot-high concrete gravity dam and spillway with a crest elevation of 301 feet above mean sea level (msl) that includes: (i) 6-foot-high steel flashboards with a crest elevation of 307 feet msl; and (ii) a concrete waste gate structure that includes a 16-foot-high, 30-foot-wide steel slide gate; (2) a 582-acre, 9-mile-long impoundment, with a normal maximum pool elevation of 307 feet msl; (3) a 342-foot-long, 8-foot-deep floating louver array; (4) generating facility No. 1 that includes: (i) A 12.5-foot-high, 15-foot-wide headgate structure with a 23.75-foot-high, 17-foot-wide trashrack with 3.5-inch clear-bar spacing; (ii) a 12.5-foot-high, 12.5-foot-wide, 21-foot-long concrete penstock; (iii) a 40-foot-high, 20-foot-wide stop log slot; (iv) a 29-foot-long, 29-foot-wide, 34-foot-high concrete and masonry powerhouse containing a single 1.8-MW turbine-generator unit; and (v) a 23-foot-wide, 14.5-foot-high, 60-foot-long draft tube; (5) generating facility No. 2 facility that includes: (i) An intake structure with a 20-foot-high, 21-foot-wide headgate with two 12.3-foot-wide, 9.3-foot-high trashracks with 3.5-inch clear-bar spacing; (ii) a 20.8-foot-high, 22.4-foot-wide stop log slot; (iii) a 88-foot-long, 78-foot-wide, 56-foot-high concrete and masonry powerhouse containing a single 4.6 MW turbine-generator unit; (iv) a 23-foot-wide, 14.5-foot-high, 60-foot-long draft tube; (6) a 100-foot-long, 2.4-kilovolt transmission line that connects the turbine-generator units to the regional grid; and (7) appurtenant facilities.

The Eastman Falls Project operates in a run-of-river mode. The existing license (Article 401) requires that the project release a continuous minimum flow of 410 cubic feet per second (cfs), or inflow (whichever is less). PSNH proposes to continue run-of-river operation and to eliminate the requirement to release a minimum flow.

l. Locations of the Application: A copy of the application is available for review at the Commission in the Public Reference Room or may be viewed on the Commission's Web site at http://www.ferc.gov using the “eLibrary” link. Enter the docket number excluding the last three digits in the docket number field to access the document. For assistance, please contact FERC Online Support at FERCOnlineSupport@ferc.gov, (866) 208-3676 (toll free), or (202) 502-8659 (TTY). A copy is also available for inspection and reproduction at the address in item (h) above.

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target date
Notice of Acceptance/Notice of Ready for Environmental Analysis | February 2016.
Filing of recommendations, preliminary terms and conditions, and fishway prescriptions | April 2016.
Commission issues Non-Draft Environmental Assessment (EA) | September 2016.
Comments on EA | October 2016.
Modified terms and conditions | December 2016.

o. Final amendments to the application must be filed with the Commission no later than 30 days from the issuance date of the notice of ready for environmental analysis.

Dated: January 4, 2016.
Nathaniel J. Davis, Sr.,
Deputy Secretary.

[FR Doc. 2016-00127 Filed 1-7-16; 8:45 am]

BILLING CODE 6717-01-P